DEPARTMENT OF ENERGY

Federal Energy Regulatory Commission

[Project No. 6055-008]

Jeffersonville Hydroelectric Co.; Notice of Intent To Prepare an Environmental Assessment

On January 3, 2023, and supplemented May 23, 2023, August 18, 2023, September 19, 2023, and November 6, 2023, Jeffersonville Hydroelectric Co. filed an application for surrender of exemption for the Lake Jefferson Project No. 6055. The project is located on the East Branch Callicoon Creek, in Sullivan County, New York, and does not occupy Federal lands.

The exemptee proposes to surrender the exemption by: (1) leaving the turbines and all generating equipment disconnected from the grid and (2) securing the power generation area of the powerhouse/residence by means of a locked barricade. The exemptee filed the surrender application in response to an ongoing compliance proceeding for the project. The exemptee has been working with the U.S. Fish and Wildlife Service and American Rivers to develop its surrender application. On December 20, 2023, the Commission issued a public notice of the surrender application. On January 19, 2024, the Department of the Interior, on behalf of its component bureau, the Fish and Wildlife Service (FWS), the New York Department of Environmental Conservation, and American Rivers filed notices of intervention. Also on January 19, 2024, the FWS, Markus Booms, and Patrick Boittiaux filed comments.

This notice identifies Commission staff's intention to prepare an environmental assessment (EA) for the project. The planned schedule for the completion of the EA is April 19, 2025.¹ Revisions to the schedule may be made as appropriate. The EA will be issued and made available for review by all interested parties. All comments filed on the EA will be reviewed by staff and considered in the Commission's final decision on the proceeding.

¹ 42 U.S.C. 4336a(g)(1)(B) requires lead Federal agencies to complete EAs within 1 year of the agency's decision to prepare an EA. This notice establishes the Commission's intent to prepare an EA for the project; therefore, the EA must be issued within 1 year of the issuance date of this notice.

The Commission's Office of Public Participation (OPP) supports meaningful public engagement and participation in Commission proceedings. OPP can help members of the public, including landowners, environmental justice communities, Tribal members, and others to access publicly available information and navigate Commission processes. For public inquiries and assistance with making filings such as interventions, comments, or requests for rehearing, the public is encouraged to contact OPP at (202) 502-6595 or OPP@ferc.gov.

Any questions regarding this notice may be directed to Jeremy Jessup at (202) 502-6779 or Jeremy.Jessup@ferc.gov.

Dated: April 19, 2024.
Debbie-Anne A. Reese,
Acting Secretary.

[FR Doc. 2024-08922 Filed 4-25-24; 8:45 am]

BILLING CODE 6717-01-P